DEPARTMENT OF AGRICULTURE

Rural Business-Cooperative Service

Rural Housing Service

Rural Utilities Service

Farm Service Agency

7 CFR Part 1980

RIN 0570-AA94

Strategic Economic and Community Development

AGENCY: Rural Business-Cooperative Service, Rural Housing Service, Rural Utilities Service, Farm Service Agency, U.S. Department of Agriculture (USDA).

ACTION: Interim rule with public comment.

SUMMARY: This interim rule implements Section 6025, Strategic Economic and Community Development, under the Agricultural Act of 2014 (2014 Farm Bill). Unless the Agency provides otherwise, the Agency will reserve up to 10 percent of the funds appropriated to certain Rural Development (RD) programs each fiscal year to fund projects that support the implementation of strategic economic and community development plans across multi-jurisdictional areas. The programs from which funds will be reserved are community facility programs, water and waste disposal programs, and rural business and cooperative development programs. To be eligible for the reserved funds, projects must be first eligible for funding under the programs from which the funds are reserved. In addition, projects must be carried out solely in rural areas. Any reserved funding that is not obligated by June 30 of the fiscal year in which the funds were reserved will be returned to the programs' regular funding accounts.

DATES: Effective June 19, 2015. Written comments must be received on or before August 18, 2015. The comment period for the information collection under the Paperwork Reduction Act of 1995 ends July 20, 2015.

ADDRESSES: Submit your comments on this rule by any of the following methods:

• Federal eRulemaking Portal: http://www.regulations.gov. Follow the instructions for submitting comments.

• Mail: Submit written comments via the U.S. Postal Service to the Branch Chief, Regulations and Paperwork Management Branch, U.S. Department of Agriculture, STOP 0742, 1400 Independence Avenue SW., Washington, DC 20250-0742.

• Hand Delivery/Courier: Submit written comments via Federal Express Mail, or other courier service requiring a street address, to the Branch Chief, Regulations and Paperwork Management Branch, U.S. Department of Agriculture, 300 7th Street SW., 7th Floor, Washington, DC 20024.

All written comments will be available for public inspection during regular work hours at the 300 7th Street SW., 7th Floor address listed above.

FOR FURTHER INFORMATION CONTACT: Aaron Morris, Rural Housing Service, Community Facilities, U.S. Department of Agriculture, STOP 0787, 1400 Independence Avenue SW., Washington, DC 20250-3225; email: aaron.morris@wdc.usda.gov; telephone (202) 720-1500.

SUPPLEMENTARY INFORMATION:

Executive Summary

I. Purpose of the Regulatory Action

This action is needed in order to implement Section 6025 of the Agricultural Act of 2014 (2014 Farm Bill) (7 U.S.C. 2008v). Section 6025 provides the Secretary of Agriculture the authority to give priority to projects that support strategic economic development or community development plans. Section 6025 enables the Secretary to reserve up to 10 percent of program funds from certain Rural Development programs, as identified in the section. This action implements this priority.

II. Summary of the Major Provisions

1. Programs. Based on the authorizing statute, funds will be reserved from one or more of eight RD programs. These programs, which are referred to as the “underlying programs,” are:

• Community Facility Loans

• Fire and Rescue and Other Small Community Facilities Projects

• Community Facilities Grant Program

• Community Programs Guaranteed Loans

• Water and Waste Disposal Programs Guaranteed Loans

• Water and Waste Loans and Grants

• Business and Industry Guaranteed Loanmaking and Servicing

• Rural Business Development Grants

2. Funding. RD will reserve up to 10 percent of an underlying program's program level to fund projects under this priority. The authorizing statute sets the upper limit on the amount of funding that can be reserved for this priority. Based on a program's budget and demand for reserved funding, RD may set lower percentages for a specific fiscal year.

Any funding that is not expended by June 30, as specified by the authorizing statute, will be returned to the applicable underlying program's account for obligation for all eligible projects in that program.

3. Applications. To be considered for funding under this priority, applicants and their projects must be eligible for one of the underlying program and must submit a specific form. The information in this form, which will accompany the application material for the applicable underlying program, will enable RD to determine whether the proposed project is eligible to receive reserved funds and, if so, to score the application in order to determine which projects will receive reserved funds.

4. Scoring applications. RD will score these applications based on:

• The underlying program's criteria.

• The proposed project's direct support of the objectives found in the strategic economic development or community development plan that it supports.

• Certain characteristics (as specified in the authorizing statute) of strategic economic development or community plan that the proposed project support.

The scores from these three areas will be summed, with higher scoring applications receiving priority for reserved funding.

5. Applications that do not received reserved funds. If an application does not receive reserved funds, it will be automatically competed with all other applications for remaining funds in that program's account. Reserved funding applications will compete based on only the score they receive on the underlying program's scoring criteria.

6. Awardees. Applicants who receive reserved funds for this priority will submit information on the project's measures, metrics, and outcomes to the appropriate entity(ies) monitoring the implementation of the plan.

7. Analysis. Because the objectives for a particular plan are driven by applicants and the multiple jurisdictions involved, RD has not yet identified a single set of metrics that would allow for parsing, or attributing, marginal benefits or impacts of the underlying program that would be achieved because of association with a multi-jurisdictional plan. However, RD is committed to the continual improvement of its collection and analysis of administrative and programmatic data to better understand the impact and benefit of support for projects associated with multi-jurisdictional plans.

III. Costs and Benefits

The cost to the individual applicant to apply for reserved funding is nominal. RD estimates the cost to complete the specific form to be no more than $300 assuming on average approximately 9 hours per form. The primary benefit of this action is to foster an environment of increased collaboration between project applicants and rural communities as they consider how to best use RD resources to address multi-jurisdictional needs, by leveraging federal, state, local or private funding, or otherwise capitalize upon the unique strengths of the rural area to support successful community and economic development.

Classification

This action has been reviewed under Executive Order (EO) 12866 and has been determined to be “economically significant” by the Office of Management and Budget. The EO defines a “economically significant regulatory action” as one that is likely to result in a rule that may: (1) Have an annual effect on the economy of $100 million or more or adversely affect, in a material way, the economy, a sector of the economy, productivity, competition, jobs, the environment, public health or safety, or State, local, or tribal governments or communities; (2) Create a serious inconsistency or otherwise interfere with an action taken or planned by another agency; (3) Materially alter the budgetary impact of entitlements, grants, user fees, or loan programs or the rights and obligations of recipients thereof; or (4) Raise novel legal or policy issues arising out of legal mandates, the President's priorities, or the principles set forth in this EO.

The Agency conducted a benefit-cost analysis to fulfill the requirements of EO 12866. In this analysis, the Agency identifies alternatives considered, the distributional effects of the reserved funding, the estimated costs of applying for and the potential benefits of receiving reserved funding to the various applicants under the eight programs included and to the Agency, the effect on the underlying programs, and the present value of the reserved funding.

Alternatives considered. The Agency did not identify meaningful alternatives to the proposed action.

Distributional effects. The proposed action will result in a distributional effect via “transfer payments” by directing Agency funds from projects that do not support a strategic economic development or community development plan to projects that do support such plans. (Transfer payments are monetary payments from one group to another that do not affect total resources available to society.) In general, the Agency does not expect the distributional effect to be large because many projects funded by the underlying programs already are found in areas covered by plans that would qualify for Section 6025 reserved funding. It is unknown as to how many such projects would apply for the reserved funding.

To the extent that there is an increase in Agency funding of projects that support such plans, the Agency expects areas within the region covered by a plan to be “better off” than if the project was not funded. The extent of this transfer, however, cannot be calculated at this time. In contrast, the proposed action may result in a negative impact by not funding a project that does not support such a plan.

Costs. In this analysis, the Agency estimates the cost to the public for applying for and receiving reserved funding is approximately $106,000 per year. With an estimated 374 applicants and 317 awardees per year, this equates to approximately $285 per applicant.

The number of applicants was determined by first estimating the most recent estimate of the number of applicants (e.g., from Paperwork Reduction Act packages) for each of the individual programs included and then determining the percentage of those applicants that are in an area covered by an Economic Development Administration (EDA) approved plan. Next, the number of underlying program applicants was multiplied by the percentage of applicants in an EDA-approved plan area and this result was then multiplied by an estimate of how many such potential applicants would actually apply for Section 6025 reserved funds. For Rural Business Devlepment Grants (RBDG), the same steps were used with one additional adjustment factor taking into account difference in funding levels between the “old” Rural Business Enterprise Grant (RBEG) and Rural Business Opportunity Grant (RBOG) programs and the new RBDG program.

The number of awardees was estimated in a similar fashion. For each included program, the number of awardees over the last few years was determined and then the percentage of those awardees that are in an area covered by an EDA approved plan was determined. Next, the number of underlying program awardees was multiplied by the percentage of awardees in an EDA-approved plan area and this result was multiplied by the percentage of potential applicants that would likely apply for Section 6025 reserved funds (as determined earlier for estimating the number of applicants). For RBDG, the same steps were used with two additional modifications—(1) using the same adjustment as for determining applicants to take into account difference in funding levels between the “old” RBEG and RBOG programs and the new RBDG program and (2) taking into account the requirement that no more than 10 percent of the RBDG funding could be used to support projects that support “RBOG” purposes.

In terms of costs to the Government for administering and implementing this project, the Agency estimated a cost of approximately $121,200 for reviewing and scoring the Section 6025 applications assuming 12 hours per application.

Benefits. The priority provided by Section 6025 is directed at only those eligible applications that are carried out solely in a rural area and that also support development plans on a multi-jurisdictional basis. As a result of this priority, the Agency expects that rural entities will access Rural Development programs in a manner that supports projects and initiatives that develop long-term community and economic growth strategies. The Agency will work with rural communities to consider how they might use Rural Development resources to address multi-jurisdictional needs, by leveraging federal, state, local or private funding, or otherwise capitalize upon the unique strengths of the rural area to support successful community and economic development. This priority will help to maximize the impact of resources available at all levels of government and ultimately help rural communities reach their full potential. Such projects will be more effective than “one-off” projects (i.e., those that meet an immediate need) in contributing to the larger strategic vision because they will be based on a strategy that takes into account the region's strengths and weaknesses, leveraging the area's assets in the most effective way possible.

Aligning projects with regional economic and community development plans helps engage individuals, organizations, local governments, institutes of learning, and the private sector in a meaningful conversation about what capacity building efforts would best serve the community in terms of creating jobs, creating investments, and generating regional wealth. In addition, the alignment helps take into account and, where possible, leverage other regional planning efforts, including the use of other federal funds and resources that support a region's goals and objectives. This helps prevent duplication, while better harnessing and directing limited federal resources for implementation efforts.

In sum, the Agency expects that the reservation of funds under this provision will result in an increased share of existing program funding going to projects that support strategic economic development or community development plans, thereby helping to address regional specific needs more directly and more generally strengthening the Agency's ability to help ensure a thriving rural economy.

Underlying Programs. The proposed action will not change the underlying provisions of the included programs (e.g., eligibility, applications, award decisions, scoring, and servicing provisions).

Present Values. Net present values were calculated using a 3 percent and a 7 percent discount rate for program levels covering Fiscal Years 2015 through 2019. The values were calculated for a baseline scenario (i.e., without the Section 6025 priority) and for a “with Section 6025 priority” scenario. For the Section 6025 priority scenario, 10 percent of each of the underlying programs' program level funds is assumed to be used to fund Section 6025 applications and the remaining 90 percent of each of the underlying programs' program level funds is used to fund “regular program” applications.

The results show that the net present value associated with funding Section 6025 priority applications ranges from $448 million to $466 million, but that there is no net difference between the baseline scenario and the “with Section 6025 priority” scenario. This occurs because Section 6025 neither increases nor decreases the program level fund allocation for any of the underlying programs.

Catalog of Federal Domestic Assistance

RD programs affected by this rulemaking are shown in the Catalog of Federal Domestic Assistance (CFDA) with numbers as indicated:

10.760—Water and Waste Disposal Systems for Rural Communities

10.766—Community Facilities Loans and Grants

10.768—Business and Industry Guaranteed Loan Program

10.351—Rural Business Development Grants

All active CFDA programs can be found at www.cfda.gov.

Executive Order 12372, Intergovernmental Review of Federal Programs

This action is not subject to the provisions of Executive Order 12372, which requires intergovernmental consultation with State and local officials.

Executive Order 12988, Civil Justice Reform

This interim rule has been reviewed under Executive Order 12988, Civil Justice Reform. RD has determined that this rule meets the applicable standards provided in section 3 of the Executive Order. Additionally, (1) all State and local laws and regulations that are in conflict with this rule will be preempted; (2) no retroactive effect will be given to the rule; and (3) administrative appeal procedures, if any, must be exhausted before litigation against the Department or its agencies may be initiated, in accordance with the regulations of the National Appeals Division of USDA at 7 CFR part 11.

National Environmental Policy Act

This document has been reviewed in accordance with 7 CFR part 1940, subpart G, “Environmental Program” and 7 CFR 1794 “Environmental Policies and Procedures.” To be eligible for the set-aside funds, a project must meet all of the requirements of the applicable underlying program, including its National Environmental Policy Act (NEPA) requirements. Any project eligible for the set-aside funding is already an action included the underlying programs and such actions are covered by NEPA, and therefore categorically excluded. Therefore, RD has determined that this action does not constitute a major Federal action significantly affecting the quality of the human environment and, in accordance with the NEPA of 1969, 42 U.S.C. 4321 et seq., an Environmental Impact Statement is not required.

Unfunded Mandates Reform Act

This rule contains no Federal mandates (under the regulatory provisions of Title II of the Unfunded Mandates Reform Act of 1995) for State, local, and Tribal governments or the private sector. Thus, this rule is not subject to the requirements of sections 202 and 205 of the Unfunded Mandates Reform Act of 1995.

Regulatory Flexibility Act

Under section 605(b) of the Regulatory Flexibility Act, 5 U.S.C. 605(b), RD certifies that this rule will not have a significant economic impact on a substantial number of small entities. The rule affects applicants across eight RD programs. Many of these applicants are small businesses. For example, with the Business and Industry (B&I) Guaranteed Loan program alone, RD estimates that approximately 50 percent of the 1,117 active lenders in the current B&I portfolio are small entities as defined by the Regulatory Flexibility Act. Therefore, RD has determined that this rule will affect a substantial number of small entities.

However, RD has determined that the economic impact of the rule on these small entities will not be significant. The rule does not make any changes to the programs from which funds will be reserved. The rule will require applicants to submit an additional form if seeking funding that is reserved for projects that support strategic economic development or community development plans. Based on the data in the Paperwork Reduction Act (PRA) burden package, RD estimates that the cost to complete this form will, on average, be no more than $300. Therefore, this rule will not have a significant impact on small entities.

Executive Order 13132, Federalism

The policies contained in this rule do not have any substantial direct effect on states, on the relationship between the National Government and the states, or on the distribution of power and responsibilities among the various levels of government. Nor does this interim rule impose substantial direct compliance costs on state and local governments. Therefore, consultation with states is not required.

Executive Order 13175, Consultation and Coordination With Indian Tribal Governments

This rule has been reviewed in accordance with the requirements of Executive Order 13175, “Consultation and Coordination with Indian Tribal Governments.” Executive Order 13175 requires Federal agencies to consult and coordinate with tribes on a government-to-government basis on policies that have tribal implications, including regulations, legislative comments or proposed legislation, and other policy statements or actions that have substantial direct effects on one or more Indian tribes, on the relationship between the Federal Government and Indian tribes or on the distribution of power and responsibilities between the Federal Government and Indian tribes.

Rural Development has assessed the impact of this rule on Indian tribes and determined that the interim rule does not, to our knowledge, have tribal implications that require tribal consultation under EO 13175. On August 21, 2014, however, Rural Development opened consultation on Farm Bill section 6025 pertaining to this regulation. Twenty one (21) Tribes participated in this consultation, and Rural Development received zero (0) formal and actionable comments. Primary Tribal concerns included definitions within the rule regarding “plans” and “multi-jurisdictional” strategies.

Rural Development plans to use an inclusive definition of “plans” so that a wide range of plans that Tribes currently have adopted and implemented may be used, as long as certain minimum standards are met. For instance the plan must be multi-jurisdictional and include:

• Economic conditions of the region;

• economic and community strengths, weaknesses, opportunities, and threats for the region;

• consideration of such aspects as the environmental and social conditions;

• strategies and implementation plan that build upon the region's strengths and opportunities ;=-and resolve the weaknesses and threats facing the region;

• performance measures to evaluate the successful implementation of the plan;

• support of key community stakeholders.

These minimum criteria do not pose any unique or additional implications or challenges for Tribes. The rule incentivizes additional planning, partnering and strategies between Tribes and other units of government/jurisdictions, such as other Indian Tribes, States, Counties, Cities, Townships, Towns, Boroughs, etc. These details of the rule, along with many others, were explained, contextualized and clarified during the consultation event on August 21, to provide a deeper understanding of the agency's underlying rationale in implementing this program in this manner.

If a Tribe requests additional consultation, Rural Development will work with the Office of Tribal Relations to ensure meaningful consultation is provided where changes, additions and modifications identified herein are not expressly mandated by Congress.

Paperwork Reduction Act

The information collection requirements contained in this interim rule have been submitted to the Office of Management and Budget (OMB). However, in accordance with the Paperwork Reduction Act of 1995, USDA RD will seek OMB approval of the reporting and recordkeeping requirements contained in this rule and hereby opens a 60-day public comment period.

Title: Strategic Economic and Community Development.

OMB Number: 0570-NEW.

Type of Request: New collection.

Abstract: This rule enables RD to reserve funds from eight RD programs for the specific purpose of funding projects that support strategic economic and community development plans.

In order to ensure a project qualifies for these reserved funds, RD must collect information on the proposed project, including how the project supports the implementation of a strategic community or economic development plan, and information on the plan itself in order to allow RD to prioritize projects if the reserved funding is insufficient to fund all eligible projects. The information required does not depend on the specific program whose reserved funding the applicant is seeking.

The following estimates are based on the average over the first 3 years the program will be in place.

Estimate of Burden: Public reporting burden for this collection of information is estimated to average 4.8 hours per response.

Respondents: Rural businesses; units of State, tribal, or local government;, instrumentalities of a State, tribal, or local government; non-profit organizations; assocations; academic institutions; public bodies; banks, credit unions, and other commercial lenders.

Estimated Number of Respondents: 374.

Estimated Number of Responses per Respondent: 1.85.

Estimated Number of Responses: 692.

Estimated Total Annual Burden (hours) on Respondents: 3,348.

E-Government Act Compliance

RD is committed to complying with the E-Government Act, to promote the use of the Internet and other information technologies, to provide increased opportunities for citizens to access Government information and services electronically.

USDA Non-Discrimination Statement

The U.S. Department of Agriculture (USDA) prohibits discrimination against its customers, employees, and applicants for employment on the bases of race, color, national origin, age, disability, sex, gender identity, religion, reprisal and, where applicable, political beliefs, marital status, familial or parental status, sexual orientation, or all or part of an individual's income is derived from any public assistance program, or protected genetic information in employment or in any program or activity conducted or funded by the Department. (Not all prohibited bases will apply to all programs and/or employment activities.)

If you wish to file an employment complaint, you must contact your agency's EEO Counselor (PDF) within 45 days of the date of the alleged discriminatory act, event, or in the case of a personnel action. Additional information can be found online at http://www.ascr.usda.gov/complaint_filing_file.html.

If you wish to file a Civil Rights program complaint of discrimination, complete the USDA Program Discrimination Complaint Form (PDF), found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Individuals who are deaf, hard of hearing, or have speech disabilities and you wish to file either an EEO or program complaint please contact USDA through the Federal Relay Service at (800) 877-8339 or (800) 845-6136 (in Spanish).

Persons with disabilities who wish to file a program complaint, please see information above on how to contact us by mail directly or by email. If you require alternative means of communication for program information (e.g., Braille, large print, audiotape, etc.) please contact USDA's TARGET Center at (202) 720-2600 (voice and TDD).

I. Background and Discussion

RD administers a multitude of Federal programs for the benefit of rural America, ranging from housing and community facilities to infrastructure and business development. Its mission is to increase economic opportunity and improve the quality of life in rural communities by providing the leadership, infrastructure, capital, and technical support that enables rural communities to prosper. To achieve its mission, RD provides financial support (including direct loans, grants, and loan guarantees) and technical assistance.

Section 6025 of the 2014 Farm Bill amends the Consolidated Farm and Rural Development Act by adding a new section—Section 379H, Strategic Economic and Community Development. This section provides RD the ability to prioritize projects that are part of multi-jurisdictional strategic economic develoment or community development plans. This provides RD an important mechanism to further our mission by leveraging projects that spur regional economic and community development. In addition, this will reward communities that demonstrate best practices for furthering sustainable regional and community prosperity by bringing together key local and regional stakeholders and using long-term planning that integrates targeted investments across communities and regions.

II. Discussion of the Rule

The following paragraphs discuss each section of the interim rule and provide additional information on RD's intent in implementing each.

Purpose (§ 1980.1001)

This section summarizes the purpose of this subpart, which is to prioritize funding of projects that specifically further the implementation of strategic economic development and community development plans.

Programs (§ 1980.1002)

This section of the rule identifies the RD programs that the Secretary may elect to include for reserving funds for projects that support strategic economic development or community development plans. These programs are:

• Rural Community Facilities—community facility grants, guaranteed loans, and direct loans;

• Rural Utilities—water and waste disposal grants, guaranteed loans, and direct loans; and

• Rural Business and Cooperative Development—business and industry direct and guaranteed loans; and rural business development grants.

Applicability of Programs (§ 1980.1003)

One of the requirements for a project to be eligible for Section 6025 funds is that it meets the “applicable eligibility requirements of this title;” that is, the project must meet the applicable eligibility requirements for at least one of the programs identified within Section 6025 (referred to hereafter as the “underlying program(s)”) and from which the funding is reserved. For example, if a project is seeking Section 6025 funds from Community Facility grants, the project must meet the applicant and project eligibility requirements of the underlying Community Facility program.

It is also the intent of RD that all of the provisions of the underlying programs apply to applicants and their projects seeking funding under this subpart. These provisions include, but are not limited to, definitions, application requirements, and reporting, recordkeeping, and servicing requirements.

Of particular note is the incorporation by reference of the definitions of “rural area” for the underlying programs. Section 6025 requires a project seeking funding under this subpart to, in part, be “carried out solely in a rural area.” In addition, Section 6025 requires using the definitions of rural area for the underlying programs as defined in the applicable provisions of the Consolidated Farm and Rural Development Act, as amended. Rather than including a definition of “rural area” in this subpart, the applicable rural area definitions are incorporated by reference.

Finally, in order to implement Section 6025, RD found it necessary to supplement certain provisions of the underlying programs. This section thus also indicates where certain provisions of the underlying programs have been supplemented.

Funding (§ 1980.1004)

Section 6025 allows RD to reserve “an amount that does not exceed 10 percent of the funds made available for a fiscal year” for the three “functional categories”—Rural Community Facilities Category, Rural Utilities Category, and Rural Business and Cooperative Development Category. This section of the rule identifies how RD will implement the reservation of funds. Highlights of this section are:

• RD will reserve 10 percent of the funds appropriated each year to each underlying program, unless RD announces otherwise; and

• Any reserved funding not obligated by June 30 (or earlier if specified by RD) will be returned to the underlying program's regular funding account.

The following paragraphs discuss these and other provisions associated with funding.

Individual program reservation of funds. RD has determined that the language in Section 6025 allows it the flexibility to reserve funds on either a functional category basis or on an individual program basis. Specifically, Section 6025 refers to “all amounts made available for” and then lists two or more programs using the conjunction “or” to link them. For example, for the Rural Business and Cooperative Development Category, Section 6025 states (emphasis added), in part, made available for business and industry direct and guaranteed loans under section 310(B)a)(2)(A); or rural business development grants under section 310(B)(c).

For ease of implementation at both the program level and the administration level, RD will reserve funds on an individual program basis. The rule allows RD to reserve funds on a basis other than an individual program basis. If RD elects to do so, RD will notify the public by publishing a notice.

Which programs will participate each year? Unless RD decides otherwise, RD will reserve funds from each of the programs identified in Section 6025 each year. Section 6025 provides RD the flexibility to not reserve funds from a specific program in a given year. RD may decide not to reserve funding from a particular program for a variety of reasons, including, but not limited to, the amount of funds appropriated to an individual program in a given year. If RD makes such a decision, RD will announce in a notice which program(s) will not be included for that fiscal year.

Percentage of funding reserved. Unless RD decides to set a lower percentage, RD will reserve each fiscal year 10 percent of the program level funding appropriated to the underlying programs. Section 6025 states that RD may reserve “an amount that does not exceed 10 percent of the funds made available for a fiscal year for a functional category,” but the section does not prevent RD from reserving funds at a lower percentage.

The primary factors that RD will take into account for determining whether to set a lower percentage for a program are (1) the funding level for that program for the upcoming fiscal year and (2) based on past experience, the level of demand for reserved funding for the program. For example, if the demand for reserved funding for a program is consistently less than 10 percent, RD would likely reduce the percentage it reserves for this priority funding.

If RD decides to set a lower percentage, RD will announce in a notice the lower percentage(s) and for which program(s). Once the percentage to be used for a given fiscal year is determined, RD will not change that percentage so that the amount of funding reserved for each program will remain the same for the fiscal year.

Unobligated reserved funds. Per Section 6025, the reservation of funds may only extend through June 30th of the fiscal year in which the funds were first made available. Therefore, the rule sets for each of the underlying programs June 30th as the “default” date by which a program's unobligated reserved funds will be returned to the underlying program's regular funding account. (Funds would go unobligated in instances where the funding requests for a program's reserved funds are less than the amount reserved for that program.)

Section 6025, however, does not prohibit RD from establishing a date earlier than June 30th after which unobligated reserved funds are returned to the underlying program's account. RD may decide that an earlier date for a program is appropriate, for example, in order to coordinate the award of reserved funds with awards made for the underlying program. If RD elects to establish an earlier date, RD will announce in a notice the earlier date(s) and for which programs. This provision may result in programs having different dates for when unobligated reserved funds are returned to their respective underlying program's regular funding account. For example, the date for one program may be June 30th while the date for another program is March 31st.

Definitions (§ 1980.1005)

This section identifies the definitions that apply to this subpart. It also incorporates by reference definitions from the underlying regulations, including as discussed earlier the definitions of “rural area.” Lastly, if a term is defined in this subpart and in one of the underlying subparts, it has the meaning as defined in this subpart for purposes of receiving funding under this subpart. Terms specific to this subpart are discussed below.

Adopted. The statute requires “applications involving State, county, municipal, or tribal governments shall include an indication of consistency with an adopted regional economic or community development plan.” The primary consideration in defining “adopted” is that the appropriate entity has, or entities have, officially approved the plan for implementation. The appropriate entity or entities will vary among plans and may be, for example, a governing body or planning board.

Carried out solely in a rural area. To be eligible for reserved funding, the statute requires that the project be “carried out solely in a rural area.” RD projects funded under programs included in this subpart already require some degree of “rurality” to the project or the services provided by the project. To ensure that a rural area project supporting a regional economic development or community development plan contributes to such a plan, RD is focusing on the phrase “carried out solely” to mean either one of the following:

• The entire project is physically located in a rural area or

• The beneficiaries of the service(s) provided through the project must either reside in a rural area (in the case of individuals) or be located in a rural area (in the case of entities).

The first metric focuses on the physical location of the project and without regard as to who would benefit from the project. For example, a hospital built entirely in a rural area would be an eligible project regardless if it provides health care services to non-rural residents.

The second metric focuses on where the beneficiaries of the services provided are located. For example, consider a project designed to provide water to residents of a rural area, but part of the project is located in a non-rural area and part of the project is located in a rural area. This project would not be an eligible project under the first metric (because part of the project is located in a non-rural area), but would be an eligible project under the second metric because the beneficiaries of the services (the individuals) reside entirely in a rural area. If, however, some of the beneficiaries reside in a non-rural area, then this project would not be an eligible project under either metric.

RD notes that projects must first be eligible under the appropriate underlying program in order to be considered eligible under this subpart. Then, the project must meet one of the two metrics established under this subpart. In most instances, meeting the underlying program's eligibility requirement will mean that the project already meets one or the other of these two metrics.

Investment. Two criteria that the statute requires RD to take into consideration when evaluating a plan (see discussion on Scoring below) are investments from other Federal agencies and investments from philanthropic organizations. For purposes of this subpart, RD is defining investment to mean either monetary or non-monetary contributions because both types of contributions can be important components to implementing the plan, especially in communities with limited resources.

Jurisdiction and multi-jurisdictional. The statute requires that a project support a community or economic development plan on a “multi-jurisdictional” basis. To clarify how RD will consider this requirement, RD is first defining “jurisdiction” and then “multi-jurisdictional.”

The principal component of “jurisdiction” is a unit of government, such as a State, Indian tribe, county, city, township, town, borough, etc. However, a plan is not always developed by, nor necessarily targeted at, such units of governments. For example, there are regional authorities, such as regional planning organizations, that may assist with developing and implementing regional economic development or community development plans. Thus, RD intends the definition of jurisdiction to be broad enough to take into account such entities.

Using the definition of jurisdiction, RD is defining “multi-jurisdictional” to mean more than one jurisdiction. This provides the broadest concept.

Philanthropic organization. As noted earlier under Investment, one of the criteria for prioritizing plans is investment from philanthropic organizations. RD is seeking to implement a definition that is sufficient to include any entity whose mission is to provide monetary, technical assistance, or other items of value for religious; charitable; scientific; literary; or educational purposes. Such entities include, but are not limited to, private trusts, foundations, churches, and charitable organizations.

Plan. As noted earlier in this preamble, the purpose of Section 6025 is to fund projects that support the implementation of strategic economic development or community development plans.

RD intends the definition of “plan” be inclusive rather than exclusive, but at the same time require the plan to address certain minimum elements in order to be effective in improving the economies of the region(s) addressed by the plan. RD examined plan requirements associated with other Federal agencies.

For the purposes of this subpart, a plan is a comprehensive economic development or community development strategy that outlines a region's vision for shaping its economy. This strategy would cover, as appropriate and necessary, a wide range of aspects such as natural resources, land use, transportation, and housing. Such plans bring together key community stakeholders to create a roadmap to diversify and strengthen their communities and to build a foundation to create the environment for regional economic prosperity.

To be an acceptable plan for the purposes of the subpart, the plan must be supported by the jurisdictions affected by the plan and must address each of the following elements:

• The economic conditions of the region;

• the economic and community strengths, weaknesses, opportunities, and threats for the region, to include consideration of such aspects as the environmental and social conditions;

• strategies and implementation plan that build upon the region's strengths and opportunities and resolve the weaknesses and threats facing the region;

• performance measures to evaluate the successful implementation of the plan; and

• support of key community stakeholders.

RD notes that inclusion of each of the five elements does not speak to the quality of the plan (as discussed below under Scoring) or to whether the plan has been adopted (as discussed earlier under Adopted in the Definitions section of the preamble).

Project. One of the eligibility criteria under this statute for projects seeking reserved funding under this subpart is that the project meets the eligibility requirements of the underlying program. While the programs identify such eligibility requirements, they do not all contain a definition of a “project.” For this subpart, RD is providing a definition of project in broad terms to be “the eligible proposed use(s) for which funds are requested as described in the application material submitted to the Agency for funding under the underlying program.” “Eligible proposed uses(s)” refers to those proposed uses that are eligible for funding under the underlying program. The intent of this definition is to cover the various types of projects eligible under the underlying programs.

Project Eligibility (§ 1980.1010)

The statute identifies three criteria that a project must meet in order to be eligible for reserved funding. These criteria, which RD is implementing directly from the statute, are:

• The project must meet the project eligibility criteria of the applicable program identified in § 1980.1002;

• The project must be carried out solely in a rural area; and

• The project must support the implementation of a strategic economic development or community development plan on a multi-jurisdictional basis.

The first criterion simply means that a project must meet the project eligibility criteria of the underlying program. For example, if a project is applying for reserved funds from the Community Facility Grant program, the project must meet the eligibility criteria for that program.

For implementing the second criterion, RD is defining “carried out solely in a rural area.” See discussion under Definitions for more information.

For the third criterion, RD is shortening the criterion to read “supports a plan on a multi-jurisdictional basis” and is using the definition of “plan” to address the statute's “strategic community and economic development plan.”

Applications (§ 1980.1015)

The section of the rule identifies two main components as follows:

1. Underlying Program Applications. Applicants must submit all of the application materials associated with the underlying program from which they are seeking reserved funding.

2. Section 6025 Specific Application Information. Applicants must submit information that addresses several items specific to being eligible to apply under this subpart and to allow RD to score the project and the plan it supports (see Scoring section below). The following paragraphs identify what information an applicant must provide when seeking funding under this subpart. If the application for the underlying program already requests the same information, the applicant is not required to repeat that information.

The applicant (§ 1980.1015(a)). In addition to basic information on the applicant (i.e., name, telephone, number, email address), this section also requires identification of whether the applicant includes a State, county, municipal, or tribal government. It is necessary to obtain this identification because there is a statutory requirement that applications involving such governmental entities must include an indication of consistency with an adopted regional economic or community development plan.

The plan (§ 1980.1015(b)). An applicant is required to identify by name the plan being supported by the project, the date the plan became effective, and the dates the plan is to remain in effect. The applicant is also required to provide contact information for the appropriate entity(ies) who prepared the plan.

As noted below in scoring, applications will be scored, in part, on the number of a plan's objectives that a project will directly support for implementing the plan. To enable RD to score an application in this regard, the applicant must provide from the most current version of the plan a list and description of each objective that the project will directly support. To provide this information, the applicant may submit copies of the relevant pages from the plan or their own list and descriptions.

Applications will be also scored on the quality of the plan based on five criteria, as established in Section 6025—(1) collaboration, (2) regional resources, (3) investment from other Federal agencies, (4) investment from philanthropic organizations, and (5) clear objectives and the ability to establish measurable performance measures and track progress toward meeting the objectives. The Agency will evaluate each plan based on information provided by the applicant on each of these five criteria. Applicants may provide this information by submitting copies of the relevant pages from the plan or providing their own descriptions. In either case, failure to provide sufficient detail may result in a lower score for the application.

Because the criterion for collaboration is based, in part, on the collaboration of stakeholders within the service area of the plan, the applicant is also required to describe the service area of the plan. Lastly, the applicant may provide, if available, a Web site address to the plan.

While the applicant is not required to submit a copy of the entire plan, RD encourages the applicant to provide a copy of relevant portions of the plan to facilitate RD review and scoring of the project and the plan.

The project (§ 1980.1015(c)). With regard to the project itself, the applicant is required to provide sufficient information on the project to enable RD to determine whether the project is “carried out solely in a rural area” as defined in this subpart. If the application material for the underlying program is sufficient to allow RD to make this determination, the applicant does not need to submit additional information. However, if it is not sufficient, the applicant must provide the necessary information showing that either the project will be physically located in a rural area or that the beneficiaries of the project's services either reside in (if an individual) or are located in (if an entity) a rural area.

The applicant is also required to provide a detailed description of how the project directly supports one or more of the plan's objectives (which are identified by the applicant under the information being requested on the plan, see above). Failure to provide sufficient information to demonstrate direct support may result in a lower score for the application.

Lastly, applicants that include a State, county, municipal, or tribal government must submit a letter from the appropriate entity(ies) who approved the plan (such as an elected or appointed official) certifying that the applicant's project is consistent with the plan and that the plan has been adopted.

Agency Coordination (§ 1980.1015(d)). Applicants are required to submit certain information that will assist RD to coordinate the programs that provide funding to this subpart.

1. Program areas. The applicant is required to identify the program area for which the applicant is seeking funds—community facility program area, the water and waste disposal program area, or the rural business and cooperative development program area. If an applicant submits an application seeking funds from more than one of these program areas, the applicant would identify each program area.

2. Multiple applications. An applicant may submit more than one application in a fiscal year for funding under this subpart. For example, an applicant may submit three applications, one for each of the three program areas. In this case, the applicant would identify in each application information on the other two applications. The information to be submitted is: The name(s) of the project(s), the program area(s) for which funds are being sought, and the dates that each application was submitted.

An applicant may submit applications at different times of the fiscal year. For example, an applicant may submit an application in November of a fiscal year and then another application in March of that same fiscal year. In such instances, the applicant would only need to identify the November application when submitting the March application.

3. Previous applications. If an applicant previously submitted one or more applications for funding under this subpart, the applicant is required to submit certain information in the current application concerning each of the previously submitted applications as follows:

• The date the previous application was submitted;

• The name of the project;

• The specific program area(s) from which funds were sought;

• Whether or not the project was selected for funding; and

• If the applicant received an award under this subpart, the specific program(s) that provided the funding; the date and amount of the award; and whether any of the funding came from funds reserved under this subpart.

Approved applications. Section 6025(e)(1) includes provisions that allow applicants who submitted applications prior to the effective date of this subpart that were approved, but not funded, to revise their applications to apply for reserved funding. RD will issue guidance on how these applications are to be resubmitted under a notice published in the Federal Register at the appropriate time.

Scoring (§ 1980.1020)

It is possible that the total amount of funds being requested by applicants for a particular program under this subpart may exceed the total reserved funds available for that program. To address this issue, RD will score projects on the basis of both the underlying program's scoring criteria, including discretionary points, and the scoring criteria, as described below, specific to this subpart.

To rank applications competing for the reserved funding under this subpart, RD will score an application considering two sets of scoring criteria (in addition to the scoring criteria of the applicable underlying program): (1) The number of a plan's objectives that the project supports (maximum of 10 points) and (2) the plan itself based on the five criteria identified in Section 6025 (maximum of 10 points). The maximum number of “Section 6025” points that a project can receive is 20 points.

Scoring how the project supports a plan (maximum score of 10 points). RD will score a project's support for implementing the plan as follows:

• If the project directly supports implementation of three or more of the plan's objectives, the application will receive 10 points.

• If the project directly supports implementation of two of the plan's objectives, the application will receive 5 points.

• If the project directly supports implementation of less than two of the plan's objectives, the application will receive no points.

Scoring the plan supported by the project (maximum score of 10 points). RD will also score the plan that the project supports. RD will use the five criteria identified in Section 6025 and as discussed below. RD will award two points for each criterion that a plan demonstrates. The Agency will award these points on the basis of what is contained in the application. Applicants are encouraged to submit the relevant pages of the most current version of the Plan to provide documentation of these criteria.

• Collaboration. If the plan was developed through the collaboration of multiple stakeholders in the service area of the plan, including the participation of combinations of stakeholders, such as State, local, and tribal governments, nonprofit institutions, institutions of higher education, and private entities, RD will award two points.

• Regional resources. If the plan demonstrates an understanding of the region's assets (including natural resources, human resources, infrastructure, and financial resources) that could support the plan, RD will award two points.

• Investment—other Federal agencies. If the development of the plan or the activities and actions taken to implement the plan include monetary or non-monetary contributions from Federal agencies other than USDA, RD will award two points.

• Investment—philanthropic organizations. If the plan includes monetary or non-monetary contributions from philanthropic organizations, RD will award two points.

• Objectives, measures, tracking. If the plan contains clear objectives, the ability to establish measurable performance measures, and the ability to track progress towards meeting the plan's objectives, RD will award two points.

Calculating an Application's Total Score

RD will calculate an application's total score by summing the application's scores received from (1) the underlying program, (2) the two sets of scoring criteria under this subpart, and (3) any discretionary points that may awarded by the State Director or the Administrator under the provisions of the applicable underlying program. RD will give higher priority for the reserved funding to higher scoring applications, based on the combined score.

Award Process (§ 1980.1025)

Unless RD indicates otherwise in a notice, the award process for the underlying program will be used to determine which projects receive funding under this subpart.

In years where funding is made available under this subpart, if a project is not awarded funds under this subpart, it is still eligible to compete for funds through the underlying program. Such projects will be scored only according to the criteria in the underlying program including any discretionary points. Any points awarded through the Section 6025 scoring criteria will not be included when competing with other projects in the underlying program. However, in years where funding is not made available under this subpart, projects are still eligible to compete for funding under the applicable underlying program. The scores for such projects when competing for underlying program funding will include the score assigned to the application under § 1980.1020(b) as described in a notice published in the Federal Register. The Agency intends to prioritize such applications in this manner even if it chooses not to reserve funds in a particular year as permitted by statute.

Evaluation of Project Information (§ 1980.1026)

An applicant that receives funding under this subpart is required to submit to the Agency information on the project's measures, metrics, and outcomes to the appropriate entity(ies) monitoring the implementation of the plan. Applicants would submit this information to the Agency for as long as the plan is in effect.

III. Invitation To Comment

RD encourages interested persons and organizations to submit written comments, which may include data, suggestions, or opinions. Commenters should include their name, address, and other appropriate contact information. If persons with disabilities (e.g., deaf, hard of hearing, or have speech difficulties) require an alternative means of receiving this notice (e.g., Braille, large print, audiotape) in order to submit comments, please contact USDA's TARGET Center at (202) 720-2600 (voice and TDD).

Comments may be submitted by any of the means identified in the ADDRESSES section. If comments are submitted by mail or hand delivery, they should be submitted in an unbound format, no larger than letter-size, suitable for copying and electronic filing. If confirmation of receipt is requested, a stamped, self-addressed, postcard or envelope should be enclosed. RD will consider all comments received during the comment period and will address comments in the preamble to the final regulation.

List of Subjects in 7 CFR Part 1980

Agriculture, Business and industry, Community facilities, Credit, Disaster assistance, Livestock, Loan programs—agriculture, Loan programs—business, Loan programs—housing and community development, Low and moderate income housing, Reporting and recordkeeping requirements, Rural areas.

For the reasons set forth in the preamble, 7 CFR part 1980 is amended as follows:

PART 1980—GENERAL

1. The authority citation for part 1980 continues to read as follows:

Authority: 5 U.S.C. 301, 7 U.S.C. 1989

2. Subpart K is added to read as follows:

Subpart K—Strategic Economic and Community Development
GENERAL
Sec.
1980.1001 Purpose.
1980.1002 Programs.
1980.1003 Applicability of Program Regulations.
1980.1004 Funding.
1980.1005 Definitions.
1980.1006-1980.1009 [Reserved]
1980.1010 Project eligibility.
1980.1011-1980.114 [Reserved]
1980.1015 Applications.
1980.1016-1980.1019 [Reserved]
1980.1020 Scoring.
1980.1021-1980.1024 [Reserved]
1980.1025 Award process.
1980.1026 Evaluation of Project information.
1980.1027-1980.1100 [Reserved]

§ 1980.1001 Purpose.

The purpose of this subpart is to give priority to Projects that support implementation of strategic economic development and community development plans on a Multi-jurisdictional basis for applications submitted for the programs identified in § 1980.1002.

§ 1980.1002 Programs.

The Agency may elect to reserve funds from one or more of the programs listed in paragraphs (a) through (h) of this section.

(a) Community Facility Loans (7 CFR part 1942, subpart A).

(b) Fire and Rescue and Other Small Community Facilities Projects (7 CFR part 1942, subpart C).

(c) Community Facilities Grant Program (7 CFR part 3570, subpart B).

(d) Community Programs Guaranteed Loans (7 CFR part 3575, subpart A).

(e) Water and Waste Disposal Programs Guaranteed Loans (7 CFR part 1779).

(f) Water and Waste Loans and Grants (7 CFR part 1780, subparts A, B, C, and D).

(g) Business and Industry Guaranteed Loanmaking and Servicing (7 CFR part 4279, subparts A and B; 7 CFR part 4287, subpart B).

(h) Rural Business Development Grants (7 CFR part 4280, subpart E).

§ 1980.1003 Applicability of Program Regulations.

Except as supplemented by this subpart, the provisions of the programs identified in § 1980.1002 are incorporated into this subpart.

§ 1980.1004 Funding.

Unless the Agency publishes a notice that indicates otherwise, the Agency will reserve funds according to the procedures specified in paragraphs (a) through (c) of this section for each of the programs identified in § 1980.1002 each fiscal year.

(a) Individual program basis. The Agency will reserve funds on an individual program basis.

(b) Percentage of funds. The Agency will reserve 10 percent of the funds made available in a fiscal year to each program identified in § 1980.1002 unless the Agency specifies a different percentage. If the Agency specifies a different percentage, the Agency will publish a notice indicating the percentage. The Agency may reserve the same or different percentages for each program in a single fiscal year.

(c) Unobligated funds. If a program's funds reserved under this subpart remain unobligated as of June 30 of the fiscal year in which the funds are reserved, the Agency will return such remaining funds to that program's regular funding account for obligation for all eligible Projects in that program.

§ 1980.1005 Definitions.

In addition to the definitions found in the regulations for the programs identified in § 1980.1002, the following definitions apply to this subpart. If the same term is defined in any of the regulations for the programs identified in § 1980.1002, for purposes of this subpart, that term will have the meaning identified in this subpart.

Adopted means that a Plan has been officially approved for implementation by the appropriate entity or entities in the Jurisdiction(s) affected by the Plan (for example, a State, Indian Tribe, county, city, township, town, borough, etc.).

Agency means the Rural Business-Cooperative Service, the Rural Housing Service, or the Rural Utilities Service, or their successor agencies.

Carried Out Solely in a rural area means either:

(1) The Project is physically located in a rural area; or

(2) All of the beneficiaries of the services provided by the Project either reside in a rural area (for individuals) or are located in a rural area (for businesses).

Investment means either monetary or non-monetary contributions to the implementation of the Plan's objectives.

Jurisdiction means a unit of government or other entity with similar powers. Examples include, but are not limited to: City, county, district, special purpose district, township, town, borough, parish, village, State, and Indian tribe.

Multi-Jurisdictional means at least two Jurisdictions.

Philanthropic organization means an entity whose mission is to provide monetary, technical assistance, or other items of value for religious, charitable, scientific, literary, or educational purposes.

Plan means a comprehensive economic development or community development strategy that outlines a region's vision for shaping its economy, and includes, as appropriate and necessary, consideration of such aspects as natural resources, land use, transportation, and housing. Such Plans bring together key community stakeholders to create a roadmap to diversify and strengthen their communities and to build a foundation to create the environment for regional economic prosperity. To be acceptable under this subpart, the Plan must be vetted and supported by the Jurisdictions affected by the Plan and must contain at a minimum the following:

(1) A summary of the economic conditions of the region;

(2) An in-depth analysis of the economic and community strengths, weaknesses, opportunities, and threats for the region, to include consideration of such aspects as the environmental and social conditions;

(3) Strategies and implementation Plan to build upon the region's strengths and opportunities and to resolve the weaknesses and threats facing the region;

(4) Performance measures that evaluate the successful implementation of the Plan's objectives; and

(5) Support of key community stakeholders.

Project means the eligible proposed use(s) for which funds are requested as described in the application material submitted to the Agency for funding under the underlying program.

§§ 1980.1006-1980.1009 [Reserved]

§ 1980.1010 Project eligibility.

In order to be eligible to receive funds under this subpart, the Project must meet the following:

(a) The Project must meet the Project eligibility criteria of the applicable program identified in § 1980.1002;

(b) The Project must be Carried Out Solely in a rural area; and

(c) The Project must support the implementation of a Plan on a Multi-Jurisdictional basis.

§§ 1980.1011-1980.1014 [Reserved]

§ 1980.1015 Applications.

In addition to the application material specific to the applicable program identified in § 1980.1002, each applicant seeking funding under this subpart must provide the information specified in paragraphs (a) through (d) of this section.

(a) Applicant. The applicant must submit:

(1) Name of the applicant;

(2) Telephone number of the applicant;

(3) Email address of the applicant; and

(4) A statement indicating whether or not the applicant is or includes one of the following:

(i) State government;

(ii) County government;

(iii) Municipal government; or

(iv) Tribal government.

(b) Plan. Each application must include the following information:

(1) The name of the Plan the Project supports;

(2) The date the Plan became effective;

(3) The dates the Plan is to remain in effect;

(4) Contact information for the entity(ies) approving the Plan, including name(s), telephone number(s), and email address(es);

(5) As found in the most current version of the Plan, the name and description of each objective that the Project will directly support;

(6) A description of the service area of the Plan;

(7) Documentation that the Plan was developed through the collaboration of multiple stakeholders in the service area of the Plan, including the participation of combinations of stakeholders;

(8) Documentation that the Plan demonstrates an understanding of the applicable region's assets that could support the Plan;

(9) Documentation indicating whether or not the Plan includes monetary or non-monetary contributions from Federal agencies other than the U.S. Department of Agriculture;

(10) Documentation indicating whether or not the Plan includes monetary or non-monetary contributions from one or more Philanthropic organizations.

(11) Documentation that the Plan contains:

(i) Clear objectives and

(ii) The ability to establish measurable performance measures and to track progress towards meeting the Plan's objectives; and

(12) If available, a Web site address link to the Plan.

(c) Project. Each application must include the following information:

(1) The name of the Project;

(2) Sufficient detail to allow the Agency to determine that the Project has been Carried Out Solely in a rural area as defined in § 1980.1005;

(3) A detailed description of how the Project directly supports each objective identified under paragraph (b)(5) of this section; and

(4) If the application is from an applicant that includes a State, county, municipal, or tribal government, a letter from the appropriate entity(ies) indicating that:

(i) The Project is consistent with the Plan and

(ii) The Plan has been Adopted.

(d) Agency coordination. To help ensure coordination among the programs included in this subpart, the Agency is requiring applicants provide the Agency the information in paragraphs (d)(1) through (3) of this section.

(1) Program areas. Identify the program area(s) (i.e., Community Facilities, Water and Waste, Rural Business and Cooperative Development) from which funds are being sought.

(2) Multiple applications. If the applicant is submitting in the same fiscal year more than one application for funding under this subpart, identify in each application the other application(s) by providing:

(i) The name(s) of the Project(s);

(ii) The program area(s) for which funds are being sought; and

(iii) The date that each application was submitted to the Agency.

(3) Previous applicants. If the applicant has previously submitted one or more applications for funding under this subpart, the applicant must provide in the current application the following information for each previous application:

(i) The date the application was submitted;

(ii) The name of the Project;

(iii) The program area(s) from which funds were sought;

(iv) Whether or not the Project was selected for funding; and

(v) If the Project was selected for funding,

(A) The name(s) of the specific program(s) that provided the funding;

(B) The date and amount of the award; and

(C) Whether any of the funding came from the funds reserved under this subpart.

§§ 1980.1016-1980.1019 [Reserved]

§ 1980.1020 Scoring.

The Agency will score each eligible application seeking funding under this subpart as described in this section.

(a) Underlying program scoring. The Agency will score each application using the criteria for the applicable program identified in § 1980.1002. The maximum number of points an application can receive under this paragraph is based on the scoring criteria for the applicable underlying program, including any discretionary points that may be awarded.

(b) Section 6025 scoring. The Agency will score each application using the criteria identified in paragraphs (b)(1) and (2) of this section. The maximum number of points an application can receive under this paragraph is 20 points.

(1) Project's direct support of a Plan's objectives. The Agency will score each application on the basis of the number of a Plan's objectives the Project directly supports. The maximum score under this paragraph is 10 points.

(i) If the Project directly supports implementation of 3 of the Plan's objectives, 10 points will be awarded.

(ii) If the Project directly supports implementation of 2 of the Plan's objectives, 5 points will be awarded.

(iii) If the Project directly supports implementation of less than 2 of the Plan's objectives, no points will be awarded.

(2) Characteristics of a Plan. The Agency will score the Plan associated with a project based upon the characteristics of the Plan, which are identified in paragraphs (b)(2)(i) through (v) of this section. Applicants must supply sufficient documentation that demonstrates to the Agency the criteria identified in paragraphs (b)(2)(i) through (v) of this section. The maximum score under this paragraph is 10 points.

(i) Collaboration. If the Plan was developed through the collaboration of multiple stakeholders in the service area of the Plan, including the participation of combinations of stakeholders, such as State, local, and tribal governments, nonprofit institutions, institutions of higher education, and private entities, two points will be awarded.

(ii) Resources. If the Plan demonstrates an understanding of the applicable regional assets that could support the Plan, including natural resources, human resources, infrastructure, and financial resources, two points will be awarded.

(iii) Other Federal Agency Investments. If the Plan includes Investments from Federal agencies other than the U.S. Department of Agriculture, two points will be awarded.

(iv) Philanthropic organization Investments. If the Plan includes Investments from Philanthropic organizations, two points will be awarded.

(v) Objectives and performance measures. If the Plan contains clear objectives and the ability to establish measurable performance measures and to track progress toward meeting the objectives, two points will be awarded.

(c) Total score. The Agency will sum the scores each application receives under paragraphs (a) and (b) of this section in order to rank applications.

§§ 1980.1021-1980.1024 [Reserved]

§ 1980.1025 Award process.

(a) Unless RD indicates otherwise in a notice, the award process for the applicable underlying program will be used to determine which Projects receive funding under this subpart.

(b) In years when funding is made available under this subpart, Projects not receiving funding under this subpart are eligible to compete for funding under the applicable underlying program. The scores for such Projects when competing for underlying program funding will not include the score assigned to the application under § 1980.1020(b).

(c) In years when funding is not made available under this subpart, Projects are eligible to compete for funding for the applicable underlying program. The scores for such Projects when competing for underlying program funding will include the score assigned the application § 1980.1020(b) as described in a notice published in the Federal Register.

§ 1980.1026 Evaluation of Project information.

To assist the Agency in evaluating the effectiveness of this subpart, each applicant that receives funding under this subpart must submit to the Agency all measures, metrics, and outcomes of the Project that are reported to the entity(ies) who are monitoring Plan implementation. This information will be submitted for as long as the Plan is in effect.

§§ 1980.1027-1980.1100 [Reserved]

Dated: May 12, 2015.
Lisa Mensah,
Under Secretary, Rural Development.
Dated: May 15, 2015.
Michael Scuse,
Under Secretary, Farm and Foreign Agricultural Services.

[FR Doc. 2015-12163 Filed 5-19-15; 8:45 am]

BILLING CODE 3410-XY-P